DEPARTMENT OF JUSTICE

Notice of Lodging of Proposed Consent Decree Under the Clean Water Act

On September 6, 2023, the Department of Justice lodged a proposed Consent Decree with the United States District Court for the Southern District of Texas in United States v. Transocean Offshore Deepwater Drilling Inc., Civil Case No. 4:23-cv-03317 (S.D. Tex.).

In this action, the United States, on behalf of the U.S. Environmental Protection Agency, filed a complaint alleging that Transocean Offshore Deepwater Drilling Inc. (“Defendant”) violated the Clean Water Act (“CWA”), 33 U.S.C. 1251, et seq. by discharging without first obtaining coverage under the National Pollutant Discharge Elimination System General Permit for New and Existing Sources and New Dischargers in the Offshore Subcategory of the Oil and Gas Extraction Point Source Category for the Western and Central Portion of the Outer Continental Shelf of the Gulf of Mexico (GMG290000) (the “General Permit”), violating terms and conditions of the General Permit, and exceeding effluent limitations prescribed by the General Permit. The complaint seeks an Order enjoining Defendant from further violating the CWA and the General Permit and requiring Defendant to pay a civil penalty.

Under the proposed settlement, Defendant agrees to pay a civil penalty of $507,000 and to develop and implement a compliance system to ensure future compliance with the CWA and the General Permit. The compliance system will be subject to review by a third-party verifier.

The publication of this notice opens a period for public comment on the proposed consent decree. Comments should be addressed to the Assistant Attorney General, Environment and Natural Resources Division, and should refer to United States v. Transocean Offshore Deepwater Drilling Inc., D.J. Ref. No. 90-5-1-1-12240. All comments must be submitted no later than thirty (30) days after the publication date of this notice. Comments may be submitted either by email or by mail:

To submit comments: | Send them to:
By e-mail | pubcomment-ees.enrd@usdoj.gov.
By mail | Assistant Attorney General, U.S. DOJ—ENRD, P.O. Box 7611, Washington, D.C. 20044-7611.

During the public comment period, the proposed Consent Decree may be examined and downloaded at this Justice Department website: https://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $40.25 (25 cents per page reproduction cost) payable to the United States Treasury.

Thomas Carroll,
Assistant Section Chief, Environmental Enforcement Section, Environment and Natural Resources Division.

[FR Doc. 2023-19646 Filed 9-11-23; 8:45 am]

BILLING CODE 4410-15-P